NUCLEAR REGULATORY COMMISSION

[NRC-2023-0189]

Information Collection: Public Records and NRC Forms 507 and 509

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Public Records and NRC Forms 507 and 509.”

DATES: Submit comments by September 30, 2024. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2023-0189 when contacting the NRC about the availability of information for this action. You may obtain publicly available information related to this action by any of the following methods:

• Federal Rulemaking Website: Go to https://www.regulations.gov and search for Docket ID NRC-2023-0189.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. A copy of the collection of information and related instructions may be obtained without charge by accessing ADAMS Accession Nos. ML24022A113, ML24227A020, and ML24022A116. The supporting statement and burden spreadsheet are available in ADAMS under Accession Nos. ML24191A457 and ML24022A112.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a request for renewal of an existing collection of information to OMB for review entitled, “Public Records and NRC Forms 507 and 509.” The NRC hereby informs potential respondents that an agency may not conduct or sponsor, and that a person is not required to respond to, a collection of information unless it displays a currently valid OMB control number.

The NRC published a Federal Register notice with a 60-day comment period on this information collection on May 6, 2024, 89 FR 37267.

1. The title of the information collection: Public Records and NRC Forms 507 and 509.

2. OMB approval number: 3150-0043.

3. Type of submission: Extension.

4. The form number, if applicable: NRC Forms 507 and 509.

5. How often the collection is required or requested: On occasion.

6. Who will be required or asked to respond: Freedom of Information Act (FOIA) requesters, outside vendors, and licensees who submit an objection to disclosure.

7. The estimated number of annual responses: 628.

8. The estimated number of annual respondents: 273.

9. The estimated number of hours needed annually to comply with the information collection requirement or request: 180.5.

10. Abstract: The FOIA, 5 U.S.C. 552, and the implementing regulations, part 9 of title 10 of the Code of Federal Regulations (10 CFR), “Public Records,” require individuals seeking access to records under the FOIA and Privacy Act of 1974, as amended, 5 U.S.C. 552a, to submit a request in writing and to describe the records sought sufficiently for the NRC to conduct a reasonable search. The Privacy Act of 1974, as amended, 5 U.S.C. 552a, establishes a code of fair information practices that governs the collection, maintenance, use, and dissemination of information about individuals that is maintained in systems of records by Federal agencies. Specifically, Subpart B (Privacy Act regulations) implements the provisions of the Privacy Act of 1974, as amended, 5 U.S.C. 552a, with respect to the procedures by which individuals may determine the existence of, seek access to, and request correction of NRC records concerning themselves. Requesters can currently submit FOIA and/or Privacy Act requests in writing, fax, email, https://www.foia.gov or by using the Public Access Link (https://foia.nrc-gateway.gov/app/Home.aspx). NRC Form 509, “Statement of Estimated Fees for Freedom of Information Act (FOIA) Request” is used by: (1) the NRC to notify requesters that fees will be assessed for processing their FOIA requests, (2) the requester to notify NRC in writing of their agreement to pay fees, (3) the NRC to notify the requester to submit a written request for a waiver pursuant to 10 CFR 9.41 within 10 working days from the receipt of the notice, and (4) the NRC to notify the requester to provide advanced payment of estimated fees. NRC Form 507, “Identity Verification and/or Third-Party Authorization for Freedom of Information Act/Privacy Act Requests,” is used by requesters to provide the identity verification or third-party authorization that is needed by the NRC in order to process their requests. The NRC uses the information provided by requesters to process requests from the public. In addition, outside vendors and licensees can submit an objection to disclosure. The NRC needs this information to properly process FOIA requests that involve confidential information or trade secrets.

Dated: August 26, 2024.
For the Nuclear Regulatory Commission.
David Cullison,
NRC Clearance Officer, Office of the Chief Information Officer.

[FR Doc. 2024-19470 Filed 8-28-24; 8:45 am]

BILLING CODE 7590-01-P